DEPARTMENT OF ENERGY

Federal Energy Regulatory Commission

Combined Notice of Filings #1

Take notice that the Commission received the following electric corporate filings:

Docket Numbers: EC19-31-000.

Applicants: Sempra Energy, Oncor Electric Delivery Company LLC, Sharyland Utilities, L.P., Sharyland Distribution & Transmission Services, L.L.C.

Description: Supplement to November 30, 2018 Joint Application for Authorization Under Section 203 of the Federal Power Act (Proposed Accounting Entries) of Sempra Energy, et al.

Filed Date: 1/30/19.

Accession Number: 20190130-5238.

Comments Due: 5 p.m. ET 2/13/19.

Docket Numbers: EC19-52-000.

Applicants: Allegheny Energy Supply Company, LLC, FirstEnergy Generation, LLC.

Description: Application for Authorization Under Section 203 of the Federal Power Act, et al. of Allegheny Energy Supply Company, LLC, et al.

Filed Date: 1/30/19.

Accession Number: 20190130-5251.

Comments Due: 5 p.m. ET 2/20/19.

Take notice that the Commission received the following exempt wholesale generator filings:

Docket Numbers: EG19-54-000.

Applicants: Hillcrest Solar I, LLC.

Description: Self-Certification of EWG Hillcrest Solar I, LLC.

Filed Date: 1/31/19.

Accession Number: 20190131-5180.

Comments Due: 5 p.m. ET 2/21/19.

Take notice that the Commission received the following electric rate filings:

Docket Numbers: ER10-1355-007.

Applicants: Southern California Edison Company.

Description: Notice of Change in Status of Southern California Edison Company.

Filed Date: 1/30/19.

Accession Number: 20190130-5247.

Comments Due: 5 p.m. ET 2/20/19.

Docket Numbers: ER10-2984-044.

Applicants: Merrill Lynch Commodities, Inc.

Description: Notice of Non-Material Change in Status of Merrill Lynch Commodities, Inc.

Filed Date: 1/30/19.

Accession Number: 20190130-5248.

Comments Due: 5 p.m. ET 2/20/19.

Docket Numbers: ER18-47-003.

Applicants: Voyager Wind II, LLC.

Description: Notice of Non-Material Change in Status of Voyager Wind II, LLC.

Filed Date: 1/30/19.

Accession Number: 20190130-5234.

Comments Due: 5 p.m. ET 2/20/19.

Docket Numbers: ER18-1953-002.

Applicants: Gulf Power Company.

Description: Compliance filing: Notice of Effective Date & Compliance Filing (OATT) ER18-1953 to be effective 1/1/2019.

Filed Date: 1/30/19.

Accession Number: 20190130-5180.

Comments Due: 5 p.m. ET 2/20/19.

Docket Numbers: ER19-917-000.

Applicants: Innovative Solar 37, LLC.

Description: Compliance filing: Compliance Filing—Category 2 Seller to be effective 3/31/2019.

Filed Date: 1/30/19.

Accession Number: 20190130-5156.

Comments Due: 5 p.m. ET 2/20/19.

Docket Numbers: ER19-918-000.

Applicants: Gulf Power Company.

Description: Initial rate filing: City of Blountstown, Florida NITSA/NOA to be effective 1/1/2019.

Filed Date: 1/30/19.

Accession Number: 20190130-5158.

Comments Due: 5 p.m. ET 2/20/19.

Docket Numbers: ER19-919-000.

Applicants: Gulf Power Company.

Description: Initial rate filing: Florida Public Utilities Company NITSA/NOA to be effective 1/1/2019.

Filed Date: 1/30/19.

Accession Number: 20190130-5159.

Comments Due: 5 p.m. ET 2/20/19.

Docket Numbers: ER19-920-000.

Applicants: Gulf Power Company.

Description: Initial rate filing: PowerSouth Energy Cooperative NITSA/NOA to be effective 1/1/2019.

Filed Date: 1/30/19.

Accession Number: 20190130-5160.

Comments Due: 5 p.m. ET 2/20/19.

Docket Numbers: ER19-921-000.

Applicants: Gulf Power Company.

Description: Initial rate filing: Duke Energy Florida, LLC Interconnection Contract to be effective 1/1/2019.

Filed Date: 1/30/19.

Accession Number: 20190130-5161.

Comments Due: 5 p.m. ET 2/20/19.

Docket Numbers: ER19-922-000.

Applicants: Southern California Edison Company.

Description: § 205(d) Rate Filing: GIA & Distrib Serv Agmt Alta Mesa 640, LLC—Alta Mesa Wind I SA Nos. 1061-1062 to be effective 1/1/2019.

Filed Date: 1/30/19.

Accession Number: 20190130-5162.

Comments Due: 5 p.m. ET 2/20/19.

Docket Numbers: ER19-923-000.

Applicants: Southern California Edison Company.

Description: § 205(d) Rate Filing: Amended GIA, True-Up County Sanitation District No. 2 of Los Angeles County to be effective 4/1/2019.

Filed Date: 1/30/19.

Accession Number: 20190130-5165.

Comments Due: 5 p.m. ET 2/20/19.

Docket Numbers: ER19-924-000.

Applicants: Arizona Public Service Company.

Description: § 205(d) Rate Filing: Rate Schedule No. 274, Notice of Succession to be effective 12/31/2018.

Filed Date: 1/30/19.

Accession Number: 20190130-5176.

Comments Due: 5 p.m. ET 2/20/19.

Docket Numbers: ER19-925-000.

Applicants: PJM Interconnection, L.L.C.

Description: § 205(d) Rate Filing: 4th Quarterly 2018 Revisions to OA, Sch. 12 and RAA, Sch. 17 Members List to be effective 12/31/2018.

Filed Date: 1/31/19.

Accession Number: 20190131-5060.

Comments Due: 5 p.m. ET 2/21/19.

Docket Numbers: ER19-926-000.

Applicants: Dominion Energy Generation Marketing, Inc.

Description: Compliance filing: Compliance Filing—Category 2 Seller to be effective 4/1/2019.

Filed Date: 1/31/19.

Accession Number: 20190131-5061.

Comments Due: 5 p.m. ET 2/21/19.

Docket Numbers: ER19-927-000.

Applicants: Moffett Solar 1, LLC.

Description: Compliance filing: Compliance Filing—Category 2 Seller to be effective 4/1/2019.

Filed Date: 1/31/19.

Accession Number: 20190131-5078.

Comments Due: 5 p.m. ET 2/21/19.

Docket Numbers: ER19-928-000.

Applicants: Estill Solar I, LLC.

Description: § 205(d) Rate Filing: Revised MBR Tariff to be effective 2/1/2019.

Filed Date: 1/31/19.

Accession Number: 20190131-5087.

Comments Due: 5 p.m. ET 2/21/19.

Docket Numbers: ER19-929-000.

Applicants: Hog Creek Wind Project, LLC.

Description: § 205(d) Rate Filing: Revised MBR Tariff to be effective 2/1/2019.

Filed Date: 1/31/19.

Accession Number: 20190131-5090.

Comments Due: 5 p.m. ET 2/21/19.

Docket Numbers: ER19-930-000.

Applicants: Meadow Lake Wind Farm VI LLC.

Description: § 205(d) Rate Filing: Revised MBR Tariff to be effective 2/1/2019.

Filed Date: 1/31/19.

Accession Number: 20190131-5091.

Comments Due: 5 p.m. ET 2/21/19.

Docket Numbers: ER19-931-000.

Applicants: Alabama Power Company.

Description: § 205(d) Rate Filing: SCE&G Amended and Restated Interconnection Agreement Filing to be effective 1/1/2019.

Filed Date: 1/31/19.

Accession Number: 20190131-5116.

Comments Due: 5 p.m. ET 2/21/19.

Docket Numbers: ER19-932-000.

Applicants: Georgia Power Company.

Description: § 205(d) Rate Filing: SCE&G Interconnection Agreement Filing to be effective 1/1/2019.

Filed Date: 1/31/19.

Accession Number: 20190131-5120.

Comments Due: 5 p.m. ET 2/21/19.

Docket Numbers: ER19-933-000.

Applicants: Mississippi Power Company.

Description: § 205(d) Rate Filing: SCE&G Interconnection Agreement Filing to be effective 1/1/2019.

Filed Date: 1/31/19.

Accession Number: 20190131-5124.

Comments Due: 5 p.m. ET 2/21/19.

Docket Numbers: ER19-934-000.

Applicants: Consumers Energy Company.

Description: § 205(d) Rate Filing: 2019 Blackstart Rate Change to be effective 6/1/2019.

Filed Date: 1/31/19.

Accession Number: 20190131-5134.

Comments Due: 5 p.m. ET 2/21/19.

Docket Numbers: ER19-935-000.

Applicants: PJM Interconnection, L.L.C.

Description: § 205(d) Rate Filing: Revisions to OA, Schedule 12 RE: Membership Terminations for Default to be effective 4/1/2019.

Filed Date: 1/31/19.

Accession Number: 20190131-5139.

Comments Due: 5 p.m. ET 2/21/19.

Docket Numbers: ER19-936-000.

Applicants: New England Power Pool Participants Committee.

Description: § 205(d) Rate Filing: February 2019 Membership Filing to be effective 1/1/2019.

Filed Date: 1/31/19.

Accession Number: 20190131-5182.

Comments Due: 5 p.m. ET 2/21/19.

Docket Numbers: ER19-937-000.

Applicants: Southwest Power Pool, Inc.

Description: § 205(d) Rate Filing: 3474R1 Clarksville Light & Water NITSA NOA to be effective 1/1/2019.

Filed Date: 1/31/19.

Accession Number: 20190131-5195.

Comments Due: 5 p.m. ET 2/21/19.

Take notice that the Commission received the following electric securities filings:

Docket Numbers: ES19-14-000.

Applicants: South Carolina Electric & Gas Company, South Carolina Generating Company, Inc.

Description: Application under Section 204 of the Federal Power Act for Authorization to Issue Securities of South Carolina Electric & Gas Company, et al.

Filed Date: 1/30/19.

Accession Number: 20190130-5253.

Comments Due: 5 p.m. ET 2/20/19.

Docket Numbers: ES19-15-000.

Applicants: El Paso Electric Company.

Description: Application under Section 204 of the Federal Power Act for Authorization to Issue Securities of El Paso Electric Company.

Filed Date: 1/30/19.

Accession Number: 20190130-5271.

Comments Due: 5 p.m. ET 2/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2019.
Nathaniel J. Davis, Sr.,
Deputy Secretary.

[FR Doc. 2019-01188 Filed 2-5-19; 8:45 am]

BILLING CODE 6717-01-P